DEPARTMENT OF LABOR

Office of the Secretary

Submission for OMB Review; Comment Request

July 8, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or E-Mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: New Collection.

Title: Employment and Training Data Validation Requirement.

OMB Number: 1205-0NEW.

Frequency: Annually.

Affected Public: Not-for-profit institutions; State, local, or tribal government; Federal Government.

Number of Respondents: 317.

Number of Annual Responses: 317.

Burden Summary Below:

A. State Programs: WIA Title IB, Wagner-Peyser, and TAA

Table 1 indicates that the annual hours needed to perform validation for the WIA Title IB, Wagner-Peyser, and TAA programs is 792 hours on average per state and 41,970 hours for all states. The annual cost of performing validation for these programs is $25,736 on average per state and $1,364,025 for all states.

Table 1.—Calculation of Combined Annual Burden for WIA Title IB, Wagner-Peyser, and TAA
| Number of states | Hours | Rate in $/hr | Cost
Large State | 18 | 1,206 | $32.50 | $39,195
Medium State | 18 | 746 | 32.50 | 24,245
Small State | 17 | 402 | 32.50 | 13,065
All States Total | 53 | 41,970 | 32.50 | 1,364,025
Average per State |  | 792 | 32.50 | 25,736

• The calculation of the hours required to perform validation includes the time for validators to review sampled case files (between 33 and 35 minutes per file), the travel time to local offices to review the files, and 15% of a supervisor's time.

• States have been divided into three categories—large, medium, and small—based on the number of participants that exit a state's program in a year. The size of the state impacts the number of sampled case files that must be reviewed and the travel time to local offices.

• The travel time per office is estimated as 8 hours for large states, 6 hours for medium states, and 3 hours for small states.

• The estimate of burden is based on the assumption that states will perform data element validation separately for the WIA Title IB and TAA programs. If states perform data element validation for both programs at the same time, the travel time required to perform validation will decrease. As a result, the burden would be reduced by approximately 160 hours for large states, 60 hours for medium states, and 21 hours for small states.

• The hourly rate is the estimated average hourly earnings for employees in state Unemployment Insurance (UI) agencies in FY 2003 (as used for FY 2003 UI budget formulation purposes).

B. Grantee Programs: MSFW, Native American Employment and Training, and SCSEP

Table 2 provides an overview of the annual burden for the MSFW Program, Indian and Native American Employment and Training Program, and SCSEP, and average hours and cost across grantees in all three programs. The annual hours needed to perform validation for a grantee operating one of these programs is 102 hours on average per grantee and 26,830 hours for all grantees. The annual cost of performing validation is $1,878 on average per grantee and $495,767 for all grantees.

Table 2.—Calculation of Annual Burden for MSFW, Native American Employment and Training, and SCSEP Grantees
| Number of grantees | Hours | Rate in $/hr | Cost
MSFW Grantee | 52 | 158 | $10.75/$32.50 | $1,896
Native American Employment & Training Grantee | 144 | 53 | 10.75 | 569
SCSEP Grantee | 68 | 162 | 10.75/32.50 | 4,637
All Grantees | 264 | 26,830 | 10.75/32.50 | 495,767
Average per Grantee |  | 102 | 10.75/32.50 | 1,878

• The calculation of the hours required to perform validation includes the time for validators to review sampled case files (40 minutes per file) and 15% of a supervisor's time. (Travel is not required for grantees to perform validation).

• The hourly rate used to calculate cost depends upon the type of organization receiving the grant. For state, county, and U.S. territory government grantees, the hourly rate is the estimated average hourly earnings for employees in state UI agencies in FY 2003 (as used for FY 2003 UI budget formulation purposes). For private non-profit grantees and Federally-recognized tribes, the hourly rate is the average hourly earnings in the social assistance industry (May 2003, Current Employment Statistics Survey, U.S. Census Bureau).

Tables 3, 4, and 5 provide a more detailed account of the annual burdens for each grantee program.

Table 3.—Calculation of Annual Burden for MSFW
Type of grantee | Number of grantees | Hours | Rate in $/hr | Cost
Private Non-Profit | 49 | 158 | $10.75 | $1,698
State or County Government | 3 | 158 | 32.50 | 5,133
All Grantees | 52 | 8,212 |  | 98,588
Avg. per Grantee |  | 158 |  | 1,896
Note: The hourly rate used to calculate cost depends upon the type of organization receiving the grant. For state and county government grantees, the hourly rate is the estimated average hourly earnings for employees in state UI agencies in FY 2003 (as used for FY 2003 UI budget formulation purposes). For private non-profit grantees, the hourly rate is the average hourly earnings in the social assistance industry (May 2003, Current Employment Statistics Survey, U.S. Census Bureau).

Table 4.—Calculation of Annual Burden for Indian and Native American Employment and Training
Type of grantee | Number of grantees | Hours | Rate in $/hr | Cost
Private Non-Profit | 70 | 53 | $10.75 | $569
Federally-Recognized Tribe | 74 | 53 | 10.75 | 569
All Grantees | 144 | 7,618 |  | 81,889
Avg. per Grantee |  | 53 | 569
Note: The hourly rate used to calculate cost is the average hourly wage in the social assistance industry (May 2003, Current Employment Statistics Survey, U.S. Census Bureau).

Table 5.—Calculation of Annual Burden for SCSEP
Type of grantee | No. of grantees | Hours | Rate in $/hr | Cost
Private Non-Profit | 12 | 162 | $10.75 | $1,739
State or U.S. Territory Government | 56 | 162 | 32.50 | 5,258
All Grantees | 68 | 11,000 |  | 315,290
Avg. per Grantee |  | 162 |  | 4,637
Note: The hourly rate used to calculate cost depends upon the type of organization receiving the grant. For state and U.S. territory government grantees, the hourly rate is the estimated average hourly earnings for employees in state UI agencies in FY 2003 (as used for FY 2003 UI budget formulation purposes). For private non-profit grantees, the hourly rate is the average hourly earnings in the social assistance industry (May 2003, Current Employment Statistics Survey, U.S. Census Bureau).

Estimated Time Per Response: 792 hours per state and 102 hours per grantee.

Total Burden Hours: 66,880.

Total annualized capital/startup costs: $767,000.

Total annual costs (operating/maintaining systems or purchasing services): $1,860,000.

Total annualized cost requested: $2,627,000.

Description: Data Validation would require states and grantees to ascertain the validity of report and participant record data submitted to the Employment and Training Administration and to submit reports to the Agency on data accuracy. The following programs would be subject to the validation requirement: Workforce Investment Act Title IB, Labor Exchange, Trade Adjustment Assistance, Migrant and Seasonal Farmworkers, Native American Employment and Training, and Senior Community service Employment Program.

Ira L. Mills,
Departmental Clearance Officer.

[FR Doc. 04-16055 Filed 7-14-04; 8:45 am]

BILLING CODE 4510-30-P